ENVIRONMENTAL PROTECTION AGENCY

[FRL-7252-3]

Meeting of the Ozone Transport Commission for the Northeast United States

AGENCY: Environmental Protection Agency.

ACTION: Notice of meeting.

SUMMARY: The United States Environmental Protection Agency is announcing the 2002 Annual Meeting of the Ozone Transport Commission (OTC). During this meeting, the OTC will deal with appropriate matters within the Ozone Transport Region in the Northeast and Mid-Atlantic States, as provided for under the Clean Air Act Amendments of 1990. This meeting is not subject to the provisions of the Federal Advisory Committee Act, Public Law 92-463, as amended.

DATES: The OTC meeting will be held on Tuesday, August 6, 2002 starting at 9 a.m. (DST).

ADDRESSES: The Inn at Essex, 70 Essex Way, Essex Junction, Vermont 05452; (802) 878-1100. Important Note: The Mid-Atlantic/Northeast Visibility Union (MANE-VU) Board will meet the previous day, on Monday, August 5, 2002, from 1 p.m. until 5 p.m. (DST), at the same location.

FOR FURTHER INFORMATION CONTACT: Judith M. Katz, U.S. Environmental Protection Agency, Region III, 1650 Arch Street, Philadelphia, PA 19103; (215) 814-2100. For Documents and Press Inquiries Contact: Ozone Transport Commission, 444 North Capitol Street, NW., Suite 638, Washington, DC 20001; (202) 508-3840; e-mail: ozone@sso.org; Web site: http://www.sso.org/otc.

SUPPLEMENTARY INFORMATION: The Clean Air Act Amendments of 1990 contain, at Section 184, provisions for the “Control of Interstate Ozone Air Pollution.” Section 184(a) establishes an “Ozone Transport Region” (OTR) comprised of the States of Connecticut, Delaware, Maine, Maryland, Massachusetts, New Hampshire, New Jersey, New York, Pennsylvania, Rhode Island, Vermont, parts of Virginia, and the District of Columbia. The Assistant Administrator for Air and Radiation of the Environmental Protection Agency convened the first meeting of the commission in New York City on May 7, 1991. The purpose of the OTC is to deal with ground level ozone formation, transport, and control within the OTR.

The purpose of this notice is to announce that this Commission will meet on August 6, 2002. The meeting will be held at the address noted earlier in this notice.

Section 176A(b)(2) of the Clean Air Act Amendments of 1990 specifies that the meetings of the OTC are not subject to the provisions of the Federal Advisory Committee Act. This meeting will be open to the public as space permits.

Type of Meeting: Open.

Agenda: Copies of the final agenda will be available from the OTC office (202) 508-3840 (by e-mail: ozone@sso.org or via the OTC Web site at http://www.sso.org/otc) on Tuesday, July 29, 2002. The MANE-VU agenda will be available at the same time, but separately on MANE-VU's Web site at http://www.sso.manevu.org. The purpose of this meeting is to review major ozone health studies, discuss the role of clean energy and energy efficiency in ozone reduction efforts, and discuss regional approaches to reducing ground-level ozone, including ozone transport.

Dated: July 23, 2002.
Donald S. Welsh,
Regional Administrator, Region III.

[FR Doc. 02-19228 Filed 7-29-02; 8:45 am]

BILLING CODE 6560-50-P